DEPARTMENT OF TRANSPORTATION

[DOT Docket No. OST-2007-27407]

National Surface Transportation Infrastructure Financing Commission

AGENCY: Department of Transportation (DOT).

ACTION: Notice of intent to form an advisory committee.

SUMMARY: Pursuant to the Safe, Accountable, Flexible, Efficient Transportation Equity Act: A Legacy for Users (SAFETEA-LU), Public Law 109-115, Aug. 10, 2005, the Secretary of Transportation is establishing a National Surface Transportation Infrastructure Financing Commission. This commission shall analyze future highway and transit needs and the finances of the Highway Trust Fund, and shall make recommendations regarding alternative approaches to financing transportation infrastructure, as directed in section 11142 of SAFETEA-LU. The purpose of this notice is to indicate the DOT's intent to charter this Commission as a Federal Advisory Committee.

FOR FURTHER INFORMATION CONTACT: Jack Wells, Chief Economist, U.S. Department of Transportation, 202-366-9224, jack.wells@dot.gov.

Background

On August 10, 2005, the President signed into law the Safe, Accountable, Flexible, Efficient Transportation Equity Act: A Legacy for Users (SAFETEA-LU) (Pub. L. 109-59, 119 Stat. 1144). Section 11142(a) of SAFETEA-LU established the National Surface Transportation Infrastructure Financing Commission and charged it to analyze future highway and transit needs and the finances of the Highway Trust Fund and to make recommendations regarding alternative approaches to financing transportation infrastructure. These recommendations must address, but are not limited to, the following topics: (a) The levels of revenue that the Federal Highway Trust Fund will require to maintain and improve the condition and performance of the Nation's highway and transit systems and to ensure that Federal levels of investment in highways and transit do not decline in real terms; and (b) the extent, if any, to which the Highway Trust Fund should be augmented by other mechanisms or funds as a Federal means of financing highway and transit infrastructure investments (SAFETEA-LU, section 11142(b)(2)).

A. Notice of Intent To Establish an Advisory Committee

In accordance with the requirements of the Federal Advisory Committee Act (FACA) (5 U.S.C. App. 2), an agency of the Federal government cannot establish or utilize a group of people in the interest of obtaining consensus advice or recommendations unless that group is chartered as a Federal advisory committee. The purpose of this notice is to indicate the DOT's intent to create a Federal advisory committee to make policy recommendations to Congress as directed in section 111142 of SAFETEA-LU.

B. Name of Committee

National Surface Transportation Infrastructure Financing Commission (“the Financing Commission”)

C. Purpose and Objective

The Financing Commission will analyze future highway and transit needs and the revenue sources of the Highway Trust Fund and shall make recommendations regarding alternative approaches to financing transportation infrastructure.

The Financing Commission will not exercise program management or regulatory development responsibilities, and will make no decisions directly affecting the programs on which it provides advice. The Financing Commission will provide policy advice to the Secretary of Transportation, the Secretary of the Treasury, and the U.S. Congress from a knowledgeable and independent perspective.

D. Balanced Membership Plans

The Financing Commission shall consist of not more than 15 members, appointed by the Secretary of Transportation (in consultation with the Secretary of the Treasury), the Chair and Ranking Minority Members of the House Ways and Means Committee, and the Chair and Ranking Minority Members of the Senate Finance Committee, as required by Section 11142(c)(1)(A)-(E) of Public Law 109-59. Members are knowledgeable in the fields of public transportation finance or highway and transit programs, policy, and needs, and include representatives of interested parties, such as State and local governments, transportation providers, and the financial community.

Commission meetings must be open to the public except where closed or partially-closed, as determined proper and consistent with the exemptions of the Government in the Sunshine Act, 5 U.S.C. 552b(c), as the basis for closure. Any member of the public is welcome to attend the Financing Commission meetings, and, as provided in FACA, may contact and communicate with the Financing Commission directly. Time will be set aside during meetings for this purpose, consistent with the Financing Commission's need for sufficient time to complete its deliberations.

E. Duration

Not later than 2 years after the date of its first meeting, the Financing Commission shall transmit its final report to the Secretaries of Transportation and the Treasury, and to Congress, as required by Section 11142(h) of Public Law 109-59. The Financing Commission shall terminate on the 180th day following the date of report transmittal.

F. Notice of Establishment

(Authority: Section 11142(a) of Pub. L. 109-59)

Mary E. Peters,
Secretary.

[FR Doc. E7-4410 Filed 3-9-07; 8:45 am]

BILLING CODE 4910-9X-P